DEPARTMENT OF TRANSPORTATION

Surface Transportation Board

[STB Finance Docket No. 34011]

Gettysburg & Northern Railroad Co.—Acquisition and Operation Exemption—Gettysburg Railway Company, Inc., Delaware Transportation Group, Inc., and Delaware Valley Railway Company, Inc.

Gettysburg & Northern Railroad Co. (GNR), a noncarrier, has filed a verified notice of exemption under 49 CFR 1150.31 to acquire from Gettysburg Railway Company, Inc., Delaware Transportation Group, Inc., and Delaware Valley Railway Company, Inc. and operate approximately 23.36 miles of rail line between approximately milepost 31.20, at Gettysburg, and milepost 7.84, at Mount Holly Springs, in Adams and Cumberland Counties, PA.

The parties reported that they intended to consummate the transaction on or about February 20, 2001. The earliest the transaction could have been consummated was February 19, 2001, the effective date of the exemption (7 days after the exemption was filed).

This transaction is related to STB Finance Docket No. 34010, Pioneer Railcorp—Continuance in Control Exemption—Gettysburg & Northern Railroad Co., wherein Pioneer Railcorp has concurrently filed a verified notice to continue in control of GNR upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34011, must be filed with the Surface Transportation Board, Office of the Secretary, Case Control Unit, 1925 K Street, NW., Washington, DC 20423-0001. In addition, a copy of each pleading must be served on Daniel A. LaKemper, Esq., Gettysburg & Northern Railroad Co., 1318 S. Johanson Road, Peoria, IL 61607.

Board decisions and notices are available on our website at http://www.stb.dot.gov.

Decided: February 20, 2001.
By the Board, David M. Konschnik, Director, Office of Proceedings.
Vernon A. Williams,
Secretary.

[FR Doc. 01-4740 Filed 2-26-01; 8:45 am]

BILLING CODE 4915-00-P